NATIONAL SCIENCE FOUNDATION

OFFICE OF SCIENCE AND TECHNOLOGY POLICY

Request for Information (RFI) on an Implementation Plan for a National Artificial Intelligence Research Resource

AGENCY: White House Office of Science and Technology Policy and National Science Foundation.

ACTION: Request for information.

SUMMARY: The Office of Science and Technology Policy and the National Science Foundation are issuing this Request for Information (RFI) to inform the work of the National Artificial Intelligence Research Resource (NAIRR) Task Force (“Task Force”). The Task Force has been directed by Congress to develop an implementation roadmap for a shared research infrastructure that would provide Artificial Intelligence (AI) researchers and students across scientific disciplines with access to computational resources, high-quality data, educational tools, and user support.

DATES: To be considered, responses and comments must be received, no later than 11:59 p.m., EDT on September 1, 2021.

ADDRESSES: Comments submitted in response to this notice may be sent by any of the following methods:

• Email: NAIRR-responses@nitrd.gov. Email submissions should be machine-readable and not be copy-protected. Submissions should include “RFI Response: National AI Research Resource” in the subject line of the message.

• Mail: Attn: Wendy Wigen, NCO, 2415 Eisenhower Avenue, Alexandria, VA 22314, USA.

Instructions: Response to this RFI is voluntary. Each individual or institution is requested to submit only one response. Submissions must be in 12 point or larger font, include a page number on each page, and not exceed 10 pages. Responses should include the name of the person(s) or organization(s) filing the comment. Responses should refer to the particular topic number(s) and letter(s), as listed below, to which the comments pertain.

Responses to this RFI may be posted online at www.ai.gov. Therefore, responses must be appropriate for posting publicly without change or redaction, and we request that no business proprietary information, copyrighted information, or personally identifiable information be submitted in response to this RFI.

In accordance with FAR 15.202(3), responses to this notice are not offers and cannot be accepted by the Government to form a binding contract. Responders are solely responsible for all expenses associated with responding to this RFI.

FOR FURTHER INFORMATION CONTACT: Wendy Wigen and NAIRR-responses@nitrd.gov, (202) 459-9683. Individuals who use a telecommunications device for the deaf (TDD) may call the Federal Information Relay Service (FIRS) at 1-800-877-8339 between 8 a.m. and 8 p.m., Eastern time, Monday through Friday.

SUPPLEMENTARY INFORMATION:

Background

Congress directed the National Science Foundation (NSF), in coordination with the White House Office of Science and Technology Policy (OSTP), to establish the NAIRR Task Force in the William M. (Mac) Thornberry National Defense Authorization Act for Fiscal Year 2021, Public Law 116-283 § 5106, and in accordance with the provisions of the Federal Advisory Committee Act. The mandate of the Task Force is to investigate the feasibility and advisability of establishing and sustaining a NAIRR and propose a roadmap detailing how such a resource should be established and sustained.

The NAIRR is envisioned as a shared computing and data infrastructure that would provide AI researchers and students across scientific fields with access to a holistic advanced computing ecosystem. This would include secure, privacy-preserving frameworks; high-quality, representative datasets; and appropriate educational tools and user support mechanisms. The goal for such a national resource is to democratize access to the cyberinfrastructure that fuels AI research and development, enabling all of America's diverse AI researchers to fully participate in exploring innovative ideas for advancing AI, including communities, institutions, and regions that have been traditionally underserved—especially with regard to AI research and related education opportunities.

Composed of members from government, academia, and the private sector, the NAIRR Task Force is required to submit an interim report to Congress and the President by May 2022, with a final report to be issued in November 2022. Find more information on the Task Force members and upcoming meetings at AI.gov.

As outlined in § 5106(b) of Public Law 116-283, the implementation roadmap developed by the Task Force should include the following:

A. Goals for establishment and sustainment of a National Artificial Intelligence Research Resource and metrics for success;

B. A plan for ownership and administration of the National Artificial Intelligence Research Resource, including:

i. An appropriate agency or organization responsible for the implementation, deployment and administration of the Research Resource; and

ii. A governance structure for the Research Resource, including oversight and decision-making authorities;

C. A model for governance and oversight to establish strategic direction, make programmatic decisions, and manage the allocation of resources;

D. Capabilities required to create and maintain a shared computing infrastructure to facilitate access to advanced computing resources for researchers across the country, including provision of curated data sets, compute resources, educational tools and services, a user-interface portal, secure access control, resident expertise, and scalability of such infrastructure;

E. An assessment of, and recommended solutions to, barriers to the dissemination and use of high-quality government data sets as part of the National Artificial Intelligence Research Resource;

F. An assessment of security requirements associated with the National Artificial Intelligence Research Resource and its management of access controls;

G. An assessment of privacy and civil rights and civil liberties requirements associated with the National Artificial Intelligence Research Resource and its research;

H. A plan for sustaining the National Artificial Intelligence Research Resource, including through Federal funding and partnerships with the private sector; and

I. Parameters for the establishment and sustainment of the National Artificial Intelligence Research Resource, including agency roles and responsibilities.

This RFI seeks input from a broad array of stakeholders on the topics set forth below. Comments from the public will be used to inform the Task Force's consideration of options and development of an implementation roadmap.

Responders are invited to provide answers to the following questions (please number your responses accordingly):

1. What options should the Task Force consider for any of roadmap elements A through I above, and why? [Please take care to annotate your responses to this question by indicating the letter(s) of the item (A through I in the list above) for which you are identifying options.]

2. Which capabilities and services (see, for example, item D above) provided through the NAIRR should be prioritized?

3. How can the NAIRR and its components reinforce principles of ethical and responsible research and development of AI, such as those concerning issues of racial and gender equity, fairness, bias, civil rights, transparency, and accountability?

4. What building blocks already exist for the NAIRR, in terms of government, academic, or private-sector activities, resources, and services?

5. What role should public-private partnerships play in the NAIRR? What exemplars could be used as a model?

6. Where do you see limitations in the ability of the NAIRR to democratize access to AI R&D? And how could these limitations be overcome?

Submitted by the National Science Foundation and the White House Office of Science and Technology Policy on July 19, 2021.

Suzanne H. Plimpton,
Reports Clearance Officer, National Science Foundation.
Stacy Murphy,
Operations Manager, White House Office of Science and Technology Policy.

[FR Doc. 2021-15660 Filed 7-22-21; 8:45 am]

BILLING CODE 7555-01-P